DEPARTMENT OF HEALTH AND HUMAN SERVICES

Centers for Disease Control and Prevention

National Task Force on Fetal Alcohol Syndrome and Fetal Alcohol Effect, (NTFFASFAE)

In accordance with section 10(a)(2) of the Federal Advisory Committee Act (Pub. L. 92-463), the Centers for Disease Control and Prevention (CDC) announce the following meeting for the aforementioned committee:

Times and Dates: 9 a.m.-5 p.m., September 12, 2007. 9 a.m.-12:30 p.m., September 13, 2007.

Place: CDC, 1600 Clifton Road, NE., Global Communications Center, Building 19, Room 232, Auditorium B, Atlanta, Georgia 30333.

Status: Open to the public, limited only by the space available. The meeting room accommodates approximately 80 people.

Purpose: The Secretary is authorized by the Public Health Service Act, section 399G, (42 U.S.C. 280f, as added by Pub. L. 105-392) to establish a National Task Force on Fetal Alcohol Syndrome and Fetal Alcohol Effect to: (1) Foster coordination among all governmental agencies, academic bodies and community groups that conduct or support Fetal Alcohol Syndrome (FAS) and Fetal Alcohol Effect (FAE) research, programs and surveillance; and (2) to otherwise meet the general needs of populations actually or potentially impacted by FAS and FAE.

Matters To Be Discussed: Agenda items include: Deliberations on two Task Force products: (1) Report on effective strategies to prevent alcohol-exposed pregnancies and (2) Research and Policy report on Fetal Alcohol Spectrum Disorders; discussions regarding the dissemination of Task Force products; updates from the Interagency Coordinating Committee on Fetal Alcohol Syndrome, the CDC and other Federal agencies, and liaison representatives; and discussion of possible collaborative activities after the Task Force sunsets in October 2007.

Agenda items are subject to change as priorities dictate.

Additional Information: In order to expedite the security clearance process at the CDC Roybal Campus located on Clifton Road, attendees are required to register online at http://www.cdc.gov/ncbddd/fas/taskforce.htm. Please complete all required fields before submitting your registration and submit no later than September 3, 2007.

Please Note: Non-U.S. citizens are required to complete the registration form online, as described above, and also to complete the “Access Request Form” no later than August 29, 2007. To receive an access request form, send an e-mail to Ms. Vowell at jvowell@cdc.gov.

For Further Information Contact: Mary Kate Weber, M.P.H., Designated Federal Official, National Center on Birth Defects and Developmental Disabilities, CDC, 1600 Clifton Road, NE., M/S E86, Atlanta, Georgia 30333, Telephone 404/498-3926, Fax 404/498-3550.

The Director, Management Analysis and Services Office, has been delegated the authority to sign Federal Register notices pertaining to announcements of meetings and other committee management activities for both the CDC and the Agency for Toxic Substance and Disease Registry.

Dated: August 14, 2007.
Elaine L. Baker,
Acting Director, Management Analysis and Services Office, Centers for Disease Control and Prevention (CDC).

[FR Doc. E7-16292 Filed 8-20-07; 8:45 am]

BILLING CODE 4163-18-P